NUCLEAR REGULATORY COMMISSION

[Docket No. 72-1050]

In the Matter of Waste Control Specialists LLC; Consolidated Interim Storage Facility

AGENCY: Nuclear Regulatory Commission.

ACTION: Confirmatory order; issuance.

SUMMARY: The U.S. Nuclear Regulatory Commission (NRC) published a notice in the Federal Register of Waste Control Specialists, LLC's (WCS) license application to construct and operate a consolidated interim waste storage facility. The deadline for members of the public to file a request for a hearing and petition for leave to intervene on WCS's application was March 31, 2017. This order is extending the deadline until May 31, 2017.

DATES: Effective Date is March 29, 2017.

ADDRESSES: Please refer to Docket ID 72-1050 when contacting the NRC about the availability of information regarding this document. You may obtain publicly available information related to this document using any of the following methods: NRC's Electronic Hearing Docket: You may obtain publicly available documents related to this hearing online at http://www.nrc.gov/about-nrc/regulatory/adjudicatory.html.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that a document is referenced.

SUPPLEMENTARY INFORMATION: The text of the Order is attached.

Dated at Rockville, Maryland, this 29th day of March, 2017.
For the Nuclear Regulatory Commission.
Annette L. Vietti-Cook,
Secretary of the Commission.

UNITED STATES OF AMERICA

NUCLEAR REGULATORY COMMISSION

In the Matter of, WASTE CONTROL SPECIALISTS LLC, (Consolidated Interim Storage Facility)

Docket No. 72-1050

ORDER

On January 30, 2017, the NRC provided notice in the Federal Register of Waste Control Specialists, LLC's (WCS) license application to construct and operate a consolidated interim waste storage facility.¹ The Federal Register notice set a deadline of March 31, 2017, for members of the public to file a request for a hearing and petition for leave to intervene on WCS's application

¹ Waste Control Specialists LLC's Consolidated Interim Spent Fuel Storage Facility Project, 82 FR 8773 (Jan. 30, 2017).

The Sierra Club, the Sustainable Energy and Economic Development (SEED) Coalition, and the Nuclear Information and Resource Service (NIRS) each requested a 120-day extension to file hearing requests.² The Sierra Club later withdrew its original request and re-filed a joint motion with WCS requesting a revised schedule that would extend the deadline for filing all hearing requests by 61 days, to May 31, 2017.³ This joint motion also proposes a briefing schedule for answers to be filed 44 days after the deadline for hearing petitions and for replies to be filed 7 days after the deadline for answers. The joint motion represents that the NRC Staff does not oppose this proposed schedule.

² Sierra Club's Motion for Extension of Time to Intervene in Licensing Proceeding (Mar. 2, 2017) (ADAMS accession no. ML17062A897); Sustainable Energy and Economic Development Coalition (SEED Coalition) Request for Extension of 120 Days for Submission of Hearing Requests and Petitions to Intervene (Mar. 7, 2017) (ML17080A493); Nuclear Information and Resource Service and Nineteen other Organization's Request for Extension on Deadline (Mar. 9, 2017) (ML17069A492). The NRC Staff and WCS oppose the SEED Coalition and NIRS requests. See Waste Control Specialists LLC's Answer Opposing Nuclear Information and Resource Service's Letter Requesting an Extension of Time and Proposing Approval of Alternative Briefing Schedule (Mar. 17, 2017) (ML17076A365); Waste Control Specialists LLC's Answer Opposing Sustainable Energy and Economic Development Coalition's Request for an Extension of Time and Proposing Approval of Alternative Briefing Schedule (Mar. 23, 2017) (ML17082A426); NRC Staff's Response to the Nuclear Information and Resource Service's Motion for an Extension of Time to Request a Hearing (Mar. 20, 2017) (ML17079A534); NRC Staff's Response to the Sustainable Energy and Economic Development Coalition's Letter Requesting an Extension of Time to Request a Hearing (Mar. 23, 2017) (ML17082A441).

³ Waste Control Specialists LLC and Sierra Club's Joint Motion for Revised Schedule Related to Hearing Requests (Mar. 13, 2017) (ML17072A498).

Given that the joint motion is unopposed, and in the interests of efficiency, pursuant to my authority in 10 CFR 2.346(b), I hereby grant all petitioners an extension of time until May 31, 2017, to file hearing requests on WCS's license application. The deadline for answers to timely hearing petitions shall be July 14, 2017. And the deadline for any replies shall be July 21, 2017.

It is so ordered.

Dated at Rockville, Maryland, this 29th day of March, 2017.

For the Commission.

Annette L. Vietti-Cook,

Secretary of the Commission.

[FR Doc. 2017-06575 Filed 4-3-17; 8:45 am]

BILLING CODE 7590-01-P